DEPARTMENT OF EDUCATION

[Docket No.: ED-2024-SCC-0060]

Agency Information Collection Activities; Comment Request; Regional Educational Laboratory (REL) Southwest Effective Advising Framework Evaluation

AGENCY: Institute of Education Sciences (IES), Department of Education (ED).

ACTION: Notice.

SUMMARY: In accordance with the Paperwork Reduction Act (PRA) of 1995, the Department is proposing a new information collection request (ICR).

DATES: Interested persons are invited to submit comments on or before June 24, 2024.

ADDRESSES: To access and review all the documents related to the information collection listed in this notice, please use http://www.regulations.gov by searching the Docket ID number ED-2024-SCC-0060. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave SW, LBJ, Room 6W203, Washington, DC 20202-8240.

FOR FURTHER INFORMATION CONTACT: For specific questions related to collection activities, please contact Anousheh Shayestehpour, (202)-987-1148.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Regional Educational Laboratory (REL) Southwest Effective Advising Framework Evaluation.

OMB Control Number: 1850-NEW.

Type of Review: New ICR.

Respondents/Affected Public: Individuals or Households.

Total Estimated Number of Annual Responses: 2,153.

Total Estimated Number of Annual Burden Hours: 611.

Abstract: By 2030, the Texas Higher Education Coordinating Board expects that 60 percent or more of all new jobs in Texas will require some postsecondary education. However, in 2019, less than half of the Texas population ages 25-34 years (44.3 percent) had some type of postsecondary credential. To close this gap and support districts in meeting the state statute that requires schools to fully develop each student's academic, career, personal, and social abilities, the Counseling, Advising, and Student Supports team (under the Division of College, Career, and Military Preparation) at the Texas Education Agency established the Effective Advising Framework. This framework expands access to effective college and career advising by streamlining and modernizing advising offerings and services for secondary and postsecondary students. The initiative aims to support students in making informed decisions about postsecondary education and careers and to offer professional development to educators and guidance counselors on advising services.

This proposed study will examine the implementation of the Effective Advising Framework across school districts participating in the pilot program. Because it is expected that districts are applying the framework in a variety of ways, the study will examine the variation in implementation across districts, including an analysis of the factors that support or hinder implementation. To do this, the research team will collect data from public education staff at the school, district, and regional levels. Surveys will be administered to gather information on how and what is being implemented at each level and what factors may act as barriers to successful implementation. One-on-one interviews and focus group interviews will be conducted with a subsample of respondents from each level to gather more in-depth information on the successes and challenges they faced in applying the framework. The results of this study will inform the continued development of the framework and the associated resources and supports that will be provided to districts and schools when the initiative is implemented statewide.

Dated: April 17, 2024.
Juliana Pearson,
PRA Coordinator, Strategic Collections and Clearance, Governance and Strategy Division, Office of Chief Data Officer, Office of Planning, Evaluation and Policy Development.

[FR Doc. 2024-08584 Filed 4-22-24; 8:45 am]

BILLING CODE 4000-01-P